DEPARTMENT OF AGRICULTURE

Rural Business-Cooperative Service

[Docket No. RBS-23-BUSINESS-0028]

60-Day Notice of Proposed Information Collection: Rural Microentrepreneur Assistance Program (RMAP); OMB Control No.: 0570-0062

AGENCY: Rural Business-Cooperative Service, USDA.

ACTION: Notice; request for comments.

SUMMARY: The United States Department of Agriculture (USDA) Rural Business-Cooperative Service announces its' intention to request a revision of a currently approved information collection and invites comments on this information collection.

DATES: Comments on this notice must be received by April 15, 2024 to be assured of consideration.

ADDRESSES: Comments may be submitted through the Federal eRulemaking Portal at: https://www.regulations.gov. To comment, in the “Search” box, enter the docket number: “RBS-23-BUSINESS-0028.” You will be taken to the “Search Results” page and a link to the Notice. To submit a comment, click on the “Comments” button under the Notice document name (this will be under the “Documents” tab if not already brought there). When you comment, you must complete all the required information, and include the Agency name and docket number. When done commenting, select the “Submit Comment” button at the bottom of the page. Information on commenting is available in the “Commenter's Checklist” located at the top of the comment page or by viewing the FAQ tab. All comments submitted, from all sources, will be posted, without change to https://www.regulations.gov. Comments containing profanity, vulgarity, threats, or other inappropriate language or content will not be considered. The Agency requests that no business proprietary information, copyrighted information, or personally identifiable information be submitted in response to this Notice.

FOR FURTHER INFORMATION CONTACT: Crystal Pemberton, Management Analyst, Branch 1, Rural Development Innovation Center—Regulations Management Division, United States Department of Agriculture, 1400 Independence Avenue SW, South Building, Washington, DC 20250-1522. Telephone: (202) 260-8621. Email: Crystal.Pemberton@usda.gov.

SUPPLEMENTARY INFORMATION: The Office of Management and Budget's (OMB) regulation (5 CFR part 1320) implementing provisions of the Paperwork Reduction Act of 1995 (Pub. L. 104-13) requires that interested members of the public and affected agencies have an opportunity to comment on information collection and recordkeeping activities (see, 5 CFR 1320.8(d)). This notice identifies the following information collection that Rural Business-Cooperative Service is submitting to OMB as extension to an existing collection with Agency adjustment.

Title: Rural Microentrepreneur Assistance Program (RMAP).

OMB Number: 0570-0062.

Expiration Date of Approval: August 31, 2024.

Type of Request: Extension and revision of a currently approved information collection.

Estimate of Burden: Public reporting burden for this collection of information is estimated to average 2 hours per response.

Respondents: Nonprofits, Indian Tribes, and Public Institutions of Higher Education.

Estimated Number of Respondents: 40.

Estimated Number of Responses per Respondent: 11.

Estimated Total Annual Burden Hours on Respondents: 1907.

Abstract: The purpose of the RMAP program is to support the development and ongoing success of rural microentrepreneurs and microenterprises. Loans and grants are made to Microenterprise Development Organizations (MDOs) to provide rural microentrepreneurs with the skills necessary to establish new rural microenterprises, to provide continuing technical and financial assistance related to the successful operation of rural microenterprises, and to assist with the cost of providing other activities and services related to the successful operation of MDOs and rural microenterprises. The loans establish or augment a rural microentrepreneur revolving loan fund and the grants provide technical assistance and training to microenterprises.

Comments are invited on:

(a) Whether the collection of information is necessary for the proper performance of the functions of the Agency, including whether the information will have practical utility;

(b) the accuracy of the Agency's estimate of the burden of the collection of information including the validity of the methodology and assumptions used;

(c) ways to enhance the quality, utility and clarity of the information to be collected; and (d) ways to minimize the burden of the collection of information on respondents, including through the use of appropriate automated, electronic, mechanical, or other technological collection techniques or other forms of information technology. All responses to this notice will be summarized and included in the request for OMB approval. All comments will become a matter of public record.

Copies of this information collection can be obtained from Crystal Pemberton, Rural Development Innovation Center—Regulations Management Division, at (202) 202-260-8621. Email: Crystal.Pemberton@usda.gov.

All responses to this notice will be summarized and included in the request for OMB approval. All comments will also become a matter of public record.

Kathryn E. Dirksen Londrigan,
Administrator, Rural Business-Cooperative Service.

[FR Doc. 2024-03166 Filed 2-14-24; 8:45 am]

BILLING CODE 3410-XY-P